FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017306F.

Name: Dockside Management, Inc. dba Dockside International Forwarders.

Address: 8405 NW 53rd Street, Suite A-104, Miami, FL 33166.

Date Revoked: January 15, 2006.

Reason: Failed to maintain a valid bond.

License Number: 018799N.

Name: Elite International Logistics, Inc.

Address: 11222 S. La Cienega Blvd., Suite 606, Inglewood, CA 90304.

Date Revoked: January 23, 2006.

Reason: Failed to maintain a valid bond.

License Number: 012345F.

Name: Home Run Shipping International, Inc.

Address: One Cross Island Plaza, Suite 316, Rosedale, NY 11422.

Date Revoked: November 17, 2005.

Reason: Failed to maintain a valid bond.

License Number: 004286F.

Name: Joseph Esposito dba Mondo Comm International Ltd.

Address: 17 Main Street, Bloomingdale, NJ 07403.

Date Revoked: February 2, 2006.

Reason: Failed to maintain a valid bond.

License Number: 013824N.

Name: LAFCO Americas, Inc.

Address: 6819 NW 84th Avenue, Miami, FL 3166.

Date Revoked: February 8, 2006.

Reason: Failed to maintain a valid bond.

License Number: 003316F.

Name: Latin American Forwarding Company dba LAFCO.

Address: 6819 NW 84th Avenue, Miami, FL 33166.

Date Revoked: February 8, 2006.

Reason: Failed to maintain a valid bond.

License Number: 001163F.

Name: Overseas Expediters, Inc.

Address: 45 John Street, Suite 708, New York, NY 10038.

Date Revoked: January 15, 2006.

Reason: Failed to maintain a valid bond.

License Number: 004409NF.

Name: Perfect West Inc.

Address: 118 E. Savarona Way, Suite 116, Carson, CA 90746.

Date Revoked: December 30, 2005.

Reason: Failed to maintain valid bonds.

License Number: 004554F.

Name: Safa Shipping, Inc.

Address: 3311 Richmond, Suite 330, Houston, TX 77098.

Date Revoked: December 25, 2005.

Reason: Failed to maintain a valid bond.

License Number: 012415N.

Name: Safeway Purchasing Construction Co., Inc. dba Safeway Freight Consolidators.

Address: 10871 NW 33rd Street, Miami, FL 33172.

Date Revoked: January 15, 2006.

Reason: Failed to maintain a valid bond.

License Number: 008918N.

Name: Sea World Services, Inc.

Address: 20 West Fairview Avenue, Valley Stream, NY 11580.

Date Revoked: February 16, 2006.

Reason: Surrendered license voluntarily.

License Number: 014629N.

Name: Septor International Inc.

Address: 1460 Route 9 North, Woodbridge, NJ 07095.

Date Revoked: February 3, 2006.

Reason: Surrendered license voluntarily.

License Number: 017084F.

Name: Stuart Logistics, Inc.

Address: 56-58 Broad Street, 3rd Floor, Charleston, SC 29401.

Date Revoked: August 25, 2005.

Reason: Failed to maintain a valid bond.

Peter J. King,
Deputy Director, Bureau of Certification and Licensing.

[FR Doc. E6-2889 Filed 2-28-06; 8:45 am]

BILLING CODE 6730-01-P